DEPARTMENT OF HEALTH AND HUMAN SERVICES

National Institutes of Health

National Institute of General Medical Sciences; Amended Notice of Meeting

Notice is hereby given of a change in the meeting of the National Institute of General Medical Sciences Special Emphasis Panel, July 9, 2012, 8:30 a.m. to July 9, 2012, 6 p.m., Hilton Garden Inn Washington DC/Bethesda, 7301 Waverly Street, Bethesda, MD, 21045 which was published in the Federal Register on June 15, 2012, 77 FR 35989.

The date, time and location of the meeting have been changed to July 24, 2012, 8 a.m. to July 25, 2012, 5 p.m., National Institutes of Health, Natcher Building, 45 Center Drive, Room 3An.18, Bethesda, MD, 20892. The meeting is closed to the public.

Dated: June 29, 2012.
Jennifer S. Spaeth,
Director, Office of Federal Advisory Committee Policy.

[FR Doc. 2012-16677 Filed 7-6-12; 8:45 am]

BILLING CODE 4140-01-P